DEPARTMENT OF AGRICULTURE

Forest Service

Kern and Tulare Counties Resource Advisory Committee

AGENCY: Forest Service, USDA.

ACTION: Notice of meetings.

SUMMARY: The Kern and Tulare Counties Resource Advisory Committee (RAC) will meet in Porterville and Bakersfield California. The committee is meeting as authorized under the Secure Rural Schools and Community Self-Determination Act (Pub. L. 110-343) and in compliance with the Federal Advisory Committee Act. The purposes of the meetings are to hear presentations regarding proposed projects and vote on projects to recommend to the Forest Superisor for funding under Title II of the Act.

DATES: The meetings will be held May 19, July 21, August 18, and August 25, 2011. All meetings will begin at 5 p.m.

ADDRESSES: The May 19 and August 18, 2011 meetings will be held at the County of Kern Administrative Office, 1115 Truxtun Avenue, Bakersfield, California, third floor conference room. The July 21 and August 25 meetings will be held in Porterville at Sequoia National Forest Headquarters, 1839 South Newcomb Street, Porterville, California. Written comments should be sent to Kern River Ranger District Office, P.O. Box 9, Kernville, CA 93238. Comments may also be sent via e-mail to pshibley@fs.fed.us, or via facsimile to 760-376-3795.

All comments, including names and addresses when provided, are placed in the record and are available for public inspection and copying. The public may inspect comments received at the Kern River Ranger District Office, 105 Whitney Road, Kernville, CA. Visitors are encouraged to call ahead to (760) 376-3781, to facilitate entry into the building.

FOR FURTHER INFORMATION CONTACT: Penelope Shibley, RAC Coordinator, Kern River Ranger District Office, P.O. Box 9, Kernville, CA 93238; (760) 376-3781; or e-mail: pshibley@fs.fed.us.

Individuals who use telecommunication devices for the deaf (TDD) may call 559-781-6650 between 8 a.m. and 4:30 p.m., Pacific Daylight Time, Monday through Friday.

SUPPLEMENTARY INFORMATION: The meetings are open to the public. The following business will be conducted: (1) Introductions of all committee members and Forest Service personnel; (2) review and approve previous meeting minutes; (3) hear updates on progress of past approved projects; (4) hear presentations on proposed projects (May 19 and July 21), and (5) review, assess and vote on projects to recommend for funding approval (August 18 and 25). Agendas and additional information can be found at the following Web site: http://www.fs.fed.us/r5/sequoia/projects/rural-schools/index.html.

Persons who wish to provide a presentation on projects to be submitted to the RAC at the May 19 meeting are to contact the Designated Federal Official, Priscilla Summers at the Western Divide Ranger District, at least seven days prior to the meeting to be added to the agenda. Contact information: 559-539-2607, 23588 Highway 190, Springville, California 93265, psummers@fs.fed.us. Persons wishing to bring related matters to the attention of the RAC may file written statements with the RAC staff before or after the meeting. Public input sessions will be provided and individuals who made written requests by seven days prior to the meetings will have the opportunity to address the RAC at those sessions.

Dated: April 19, 2011.
Debra L. Whitman,
Acting Forest Supervisor, Sequoia National Forest.

[FR Doc. 2011-9963 Filed 4-22-11; 8:45 am]

BILLING CODE 3410-11-P